DEPARTMENT OF ENERGY

Federal Energy Regulatory Commission

18 CFR Part 157

[Docket No. RM81-19-000]

Natural Gas Pipelines; Project Cost and Annual Limits

AGENCY: Federal Energy Regulatory Commission, Energy.

ACTION: Final rule.

SUMMARY: Pursuant to the authority delegated by the Commission's regulations, the Director of the Office of Energy Projects (OEP) computes and publishes the project cost and annual limits for natural gas pipelines blanket construction certificates for each calendar year.

DATES: This final rule is effective February 14, 2023 and establishes cost limits applicable from January 1, 2023, through December 31, 2023.

FOR FURTHER INFORMATION CONTACT: Daniel Green, Chief, Certificates Branch 2, Division of Pipeline Certificates, (202) 502-8755.

SUPPLEMENTARY INFORMATION: Section 157.208(d) of the Commission's Regulations provides for project cost limits applicable to construction, acquisition, operation, and miscellaneous rearrangement of facilities (Table I) authorized under the blanket certificate procedure (Order No. 234, 19 FERC ¶ 61,216). Section 157.215(a) specifies the calendar year dollar limit which may be expended on underground storage testing and development (Table II) authorized under the blanket certificate. Section 157.208(d) requires that the “limits specified in Tables I and II shall be adjusted each calendar year to reflect the ‘GDP implicit price deflator’ published by the Department of Commerce for the previous calendar year.”

Pursuant to § 375.308(x)(1) of the Commission's Regulations, the authority for the publication of such cost limits, as adjusted for inflation, is delegated to the Director of the Office of Energy Projects. The cost limits for calendar year 2023, as published in Table I of § 157.208(d) and Table II of § 157.215(a), are hereby issued.

Effective Date

This final rule is effective February 14, 2023. The provisions of 5 U.S.C. 804 regarding Congressional review of Final Rules does not apply to the Final Rule because the rule concerns agency procedure and practice and will not substantially affect the rights or obligations of non-agency parties. The final rule merely updates amounts published in the Code of Federal Regulations to reflect the Department of Commerce's latest annual determination of the Gross Domestic Product (GDP) implicit price deflator, a mathematical updating required by the Commission's existing regulations.

List of Subjects in 18 CFR Part 157

Administrative practice and procedure, Natural Gas, Reporting and recordkeeping requirements.

Issued: February 7, 2023.
Terry L. Turpin,
Director, Office of Energy Projects.

Accordingly, 18 CFR part 157 is amended as follows:

PART 157—APPLICATIONS FOR CERTIFICATES OF PUBLIC CONVENIENCE AND NECESSITY AND FOR ORDERS PERMITTING AND APPROVING ABANDONMENT UNDER SECTION 7 OF THE NATURAL GAS ACT

1. The authority citation for part 157 is revised to read as follows:

Authority: 15 U.S.C. 717-717w, 3301-3432; 42 U.S.C. 7101-7352.

2. In § 157.208, in paragraph (d), remove table I to part 157 and add table 1 to paragraph (d) in its place to read as follows:

§ 157.208 Construction, acquisition, operation, replacement, and miscellaneous rearrangement of facilities.

* * * * *

(d) * * *

Table I to Paragraph (d)
Year | Limit: Auto. proj. cost limit (col. 1) | Limit: Prior notice proj. cost limit (col. 2)
1982 | $4,200,000 | $12,000,000
1983 | 4,500,000 | 12,800,000
1984 | 4,700,000 | 13,300,000
1985 | 4,900,000 | 13,800,000
1986 | 5,100,000 | 14,300,000
1987 | 5,200,000 | 14,700,000
1988 | 5,400,000 | 15,100,000
1989 | 5,600,000 | 15,600,000
1990 | 5,800,000 | 16,000,000
1991 | 6,000,000 | 16,700,000
1992 | 6,200,000 | 17,300,000
1993 | 6,400,000 | 17,700,000
1994 | 6,600,000 | 18,100,000
1995 | 6,700,000 | 18,400,000
1996 | 6,900,000 | 18,800,000
1997 | 7,000,000 | 19,200,000
1998 | 7,100,000 | 19,600,000
1999 | 7,200,000 | 19,800,000
2000 | 7,300,000 | 20,200,000
2001 | 7,400,000 | 20,600,000
2002 | 7,500,000 | 21,000,000
2003 | 7,600,000 | 21,200,000
2004 | 7,800,000 | 21,600,000
2005 | 8,000,000 | 22,000,000
2006 | 9,600,000 | 27,400,000
2007 | 9,900,000 | 28,200,000
2008 | 10,200,000 | 29,000,000
2009 | 10,400,000 | 29,600,000
2010 | 10,500,000 | 29,900,000
2011 | 10,600,000 | 30,200,000
2012 | 10,800,000 | 30,800,000
2013 | 11,000,000 | 31,400,000
2014 | 11,200,000 | 31,900,000
2015 | 11,400,000 | 32,400,000
2016 | 11,600,000 | 32,800,000
2017 | 11,800,000 | 33,200,000
2018 | 12,000,000 | 33,800,000
2019 | 12,300,000 | 34,600,000
2020 | 12,500,000 | 35,200,000
2021 | 12,600,000 | 35,600,000
2022 | 13,100,000 | 37,100,000
2023 | 14,000,000 | 39,700,000

* * * * *

3. In § 157.215, in paragraph (a)(5), remove table II to part 157 and add table 1 to paragraph (a)(5) in its place to read as follows:

§ 157.215 Underground storage testing and development.

(a) * * *

(5) * * *

Table 1 to Paragraph (a)(5)
Year | Limit
1982 | $2,700,000
1983 | 2,900,000
1984 | 3,000,000
1985 | 3,100,000
1986 | 3,200,000
1987 | 3,300,000
1988 | 3,400,000
1989 | 3,500,000
1990 | 3,600,000
1991 | 3,800,000
1992 | 3,900,000
1993 | 4,000,000
1994 | 4,100,000
1995 | 4,200,000
1996 | 4,300,000
1997 | 4,400,000
1998 | 4,500,000
1999 | 4,550,000
2000 | 4,650,000
2001 | 4,750,000
2002 | 4,850,000
2003 | 4,900,000
2004 | 5,000,000
2005 | 5,100,000
2006 | 5,250,000
2007 | 5,400,000
2008 | 5,550,000
2009 | 5,600,000
2010 | 5,700,000
2011 | 5,750,000
2012 | 5,850,000
2013 | 6,000,000
2014 | 6,100,000
2015 | 6,200,000
2016 | 6,300,000
2017 | 6,400,000
2018 | 6,500,000
2019 | 6,600,000
2020 | 6,700,000
2021 | 6,800,000
2022 | 7,100,000
2023 | 7,600,000

* * * * *

[FR Doc. 2023-02996 Filed 2-13-23; 8:45 am]

BILLING CODE 6717-01-P